ENVIRONMENTAL PROTECTION AGENCY

[ER-FRL-9054-9]

Environmental Impact Statements; Notice of Availability

Responsible Agency: Office of Federal Activities, General Information 202-564-5632 or https://www.epa.gov/nepa.

Weekly receipt of Environmental Impact Statements (EIS)

Filed January 11, 2021 10 a.m. EST Through January 14, 2021 10 a.m. EST

Pursuant to 40 CFR 1506.9.

Notice Section 309(a) of the Clean Air Act requires that EPA make public its comments on EISs issued by other Federal agencies. EPA's comment letters on EISs are available at: https://cdxnodengn.epa.gov/cdx-enepa-public/action/eis/search.

EIS No. 20210006, Final Supplement, NRCS, MO, East Locust Creek Watershed Revised Plan, Review Period Ends: 02/22/2021, Contact: Chris Hamilton 573-876-0901.

EIS No. 20210007, Draft, USFS, DC, 36 CFR 228, Subpart A, Locatable Minerals, Comment Period Ends: 03/22/2021, Contact: Michael Fracasso 303-241-3330.

EIS No. 20210008, Final, BLM, CA, Crimson Solar Project Final Environmental Impact Statement and Proposed Land Use Amendment to the California Desert Conservation Area Plan, Review Period Ends: 02/22/2021, Contact: Miriam Liberatore 541-618-2200.

EIS No. 20210009, Final, FTA, PA, King of Prussia Rail Extension Project, Contact: Tim Lidiak 215-656-7084.

Under 23 U.S.C. 139(n)(2), FTA has issued a single FEIS and ROD. Therefore, the 30-day wait/review period under NEPA does not apply to this action.

EIS No. 20210010, Draft, FRA, MD, Draft Environmental Impact Statement and Draft Section 4(f) Evaluation Baltimore-Washington Superconducting MAGLEV Project, Comment Period Ends: 04/22/2021, Contact: Brandon Bratcher 202-493-0844.

Amended Notice

EIS No. 20200215, Draft, USFS, OR, Stella Restoration Project, Comment Period Ends: 01/12/2021, Contact: Elizabeth Bly 541-560-3465.

Revision to FR Notice Published 10/30/2020; Correction to Comment Period Due Date from December 14, 2020 to January 12, 2021.

EIS No. 20200238, Draft, USFS, OR, VOID—Stella Restoration Project, Comment Period Ends: 01/12/2021, Contact: Elizabeth Bly 541-560-3465.

Revision to FR Notice Published 11/27/2020; Retracted due to erroneous filing.

Dated: January 15, 2021.
Cindy S. Barger,
Director, NEPA Compliance Division, Office of Federal Activities.

[FR Doc. 2021-01365 Filed 1-21-21; 8:45 am]

BILLING CODE 6560-50-P